DEPARTMENT OF ENERGY

Federal Energy Regulatory Commission

[Docket Nos. CP06-62-000, CP06-63-000, and CP06-65-000]

Rendezvous Gas Services, L.L.C. and Rendezvous Pipeline Company, L.L.C.; Notice of Applications

February 17, 2006.

Take notice that on February 10, 2006, Rendezvous Gas Services, L.L.C. (RGS) and Rendezvous Pipeline Company, L.L.C. (Rendezvous Pipeline), both located at 1050 17th Street, Suite 500, Denver, Colorado 80265, filed an application pursuant to sections 7 (b) and (c) of the Natural Gas Act and Part 157 of the Commission's regulations requesting, in Docket No. CP06-62-000: (1) Approval to abandon RGS' certificate authorities, issued in Docket Nos. CP05-40-000 and CP05-41-000, including authorization to construct and operate a 20.8-mile, 20-inch pipeline in Uinta and Lincoln Counties, Wyoming; and (2) issuance of a certificate of public convenience and necessity to Rendezvous Pipeline to acquire RGS' jurisdictional assets and to succeed to RGS' authority to construct and operate the pipeline facilities. The application also requests, in Docket Nos. CP06-63-000 and CP06-65-000, respectively, that Rendezvous Pipeline be issued: (1) A blanket certificate under Subpart F of Part 157 of the Commission's regulations; and (2) a blanket certificate under Subpart G of Part 284 of the Commission's regulations. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding the application are to be directed to Perry H. Richards, Rendezvous Pipeline Company, L.L.C., 1050 17th Street, Suite 500, Denver, CO 80265, or call (303) 672-6986 or Fax (303) 308-3610.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: February 24, 2006.

Magalie R. Salas,
Secretary.

[FR Doc. E6-2701 Filed 2-24-06; 8:45 am]

BILLING CODE 6717-01-P